NUCLEAR REGULATORY COMMISSION

[NRC-2025-1999]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by January 22, 2026. A request for a hearing or petitions for leave to intervene must be filed by February 23, 2026. This monthly notice includes all amendments issued, or proposed to be issued, from October 10, 2025, to December 4, 2025. The last monthly notice was published on November 25, 2025.

ADDRESSES: You may submit comments by any of the following methods; however, the NRC encourages electronic comment submission through the Federal rulemaking website.

• Federal rulemaking website: Go to https://www.regulations.gov and search for Docket ID NRC-2025-1999. Address questions about Docket IDs in Regulations.gov to Bridget Curran; telephone: 301-415-1003; email: Bridget.Curran@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242; email: Paula.Blechman@nrc.gov.

SUPPLEMENTARY INFORMATION:

I. Obtaining Information and Submitting Comments

A. Obtaining Information

Please refer to Docket ID NRC-2025-1999, facility name, unit number(s), docket number(s), application date, and subject when contacting the NRC about the availability of information for this action. You may obtain publicly available information related to this action by any of the following methods:

• Federal Rulemaking Website: Go to https://www.regulations.gov and search for Docket ID NRC-2025-1999.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-1999, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket is created, the participant must submit adjudicatory documents in the Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the nuclear power plant names, docket numbers, dates of application, ADAMS accession numbers, and locations in the application of the licensees' proposed NSHC determination. For further details with respect to these license amendment applications, see the applications for amendment, publicly available portions of which are available for public inspection in ADAMS. For additional direction on accessing information related to this document, see the “Obtaining Information and Submitting Comments” section of this document.

License Amendment Request(s)
Constellation Energy Generation, LLC; Braidwood Station, Unit 1; Will County, IL
Docket No(s) | 50-456.
Application date | October 3, 2025.
ADAMS Accession No | ML25276A085.
Location in Application of NSHC | Pages 4-5 of Attachment 1.
Brief Description of Amendment(s) | The proposed amendment would revise License Conditions 2.C(13)(b)(1) and 2.C(13)(b)(2) to extend the completion date of License Renewal Commitment 30 Enhancements 2 and 3 to October 16, 2026.
Proposed Determination | NSHC.
Name of Attorney for Licensee, Mailing Address | Jason Zorn, Associate General Counsel, Constellation Energy Generation, LLC 4300 Winfield Road Warrenville, IL 60555.
NRC Project Manager, Telephone Number | Scott Wall, 301-415-2855.
Constellation Energy Generation, LLC; Quad Cities Nuclear Power Station, Units 1 and 2; Rock Island County, IL
Docket No(s) | 50-254, 50-265.
Application date | August 6, 2025.
ADAMS Accession No | ML25218A263.
Location in Application of NSHC | Pages 3-5 of Attachment 1.
Brief Description of Amendment(s) | The proposed amendments request relocation of Technical Specification 3.3.7.2, “Mechanical Vacuum Pump Trip Instrumentation,” to an appropriate licensee-controlled document.
Proposed Determination | NSHC.
Name of Attorney for Licensee, Mailing Address | Jason Zorn, Associate General Counsel, Constellation Energy Generation, LLC 4300 Winfield Road Warrenville, IL 60555.
NRC Project Manager, Telephone Number | Robert Kuntz, 301-415-3733.
Constellation FitzPatrick, LLC and Constellation Energy Generation, LLC; James A. FitzPatrick Nuclear Power Plant; Oswego County, NY
Docket No(s) | 50-333.
Application date | September 5, 2025.
ADAMS Accession No | ML25248A291.
Location in Application of NSHC | Pages 6-8 of Attachment 1.
Brief Description of Amendment(s) | The proposed amendment would revise the Technical Specification (TS) Allowable Value for Reactor Water Cleanup System isolation on low Reactor Pressure Vessel (RPV) water level from Level 3 (≥177 inches) to Level 2 (≥107 inches) in Table 3.3.6.1-1, “Primary Containment Isolation Instrumentation.” TS Table 3.3.5.2-1, “Reactor Pressure Vessel (RPV) Water Inventory Control Instrumentation,” would also be revised consistent with the modified Table 3.3.6.1-1.
Proposed Determination | NSHC.
Name of Attorney for Licensee, Mailing Address | Jason Zorn, Associate General Counsel, Constellation Energy Generation, LLC, 101 Constitution Ave, NW, Suite 400 East, Washington, DC 20001.
NRC Project Manager, Telephone Number | Richard Guzman, 301-415-1030.
Energy Northwest; Columbia Generating Station; Benton County, WA
Docket No(s) | 50-397.
Application date | October 23, 2025.
ADAMS Accession No | ML25300A113.
Location in Application of NSHC | Pages 5-6 of the Enclosure.
Brief Description of Amendment(s) | The proposed amendment would revise Technical Specification 3.1.3, “Control Rod OPERABILITY,” to remove an addition of the word “partially” introduced in the licensee's conversion from WordPerfect to Microsoft Word in Surveillance Requirement 3.1.3.2.
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
Entergy Operations, Inc.; Arkansas Nuclear One, Unit 2; Pope County, AR
Docket No(s) | 50-368.
Application date | September 4, 2025.
ADAMS Accession No | ML25247A291.
Location in Application of NSHC | Pages 6-7 of the Enclosure.
Brief Description of Amendment(s) | The proposed amendment would correct several related, obvious typographical errors. These errors were inadvertently introduced into the technical specifications by License Amendment No. 323, dated February 8, 2021 (ML20351A153). Part of Amendment 323 revised Surveillance Requirement (SR) 4.4.6.2.1 by deleting subsection 4.4.6.2.1.b and relabeling SR 4.4.6.2.1.a as SR 4.4.6.2.1.
Proposed Determination | NSHC.
Name of Attorney for Licensee, Mailing Address | Anna Vinson, Associate General Counsel—Legal—Nuclear, Entergy Services, LLC,101 Constitution Avenue NW, Suite 200 East, Washington, DC 20001.
NRC Project Manager, Telephone Number | Mahesh Chawla, 301-415-8371.
Nebraska Public Power District; Cooper Nuclear Station; Nemaha County, NE
Docket No(s) | 50-298.
Application date | August 23, 2025.
ADAMS Accession No | ML25237A251.
Location in Application of NSHC | Pages 3-5 of Attachment 1.
Brief Description of Amendment(s) | The proposed amendment would adopt Technical Specifications Task Force (TSTF) Traveler 576, “Revise Safety/Relief Valve Requirements.” The proposed change would revise the safety/relief valve and safety valve technical specification to align the overpressure protection requirements with the safety limits and the regulations.
Proposed Determination | NSHC.
Name of Attorney for Licensee, Mailing Address | John C. McClure, Executive Vice President External Affairs and General Counsel Nebraska Public Power District, P.O. Box 499, Columbus, NE 68601.
NRC Project Manager, Telephone Number | Thomas Byrd, 301 415-3719.
Southern Nuclear Operating Company, Inc.; Joseph M. Farley Nuclear Plant, Units 1 and 2; Houston County, AL
Docket No(s) | 50-348, 50-364.
Application date | September 25, 2025.
ADAMS Accession No | ML25268A279.
Location in Application of NSHC | Pages E-13 to E-14 of the Enclosure.
Brief Description of Amendment(s) | The proposed amendments would revise diesel generator frequency and voltage ranges tor Technical Specification 3.8.1, “AC [Alternating Current] Sources—Operating,” as described in their submittal.
Proposed Determination | NSHC.
Name of Attorney for Licensee, Mailing Address | Millicent Ronnlund, Vice President and General Counsel, Southern Nuclear Operating Co., Inc., P. O. Box 1295, Birmingham, AL 35201-1295.
NRC Project Manager, Telephone Number | G. Ed Miller, 301-415-2481.
Virginia Electric and Power Company, Dominion Nuclear Company; North Anna Power Station, Units 1 and 2; Louisa County, VA
Docket No(s) | 50-338, 50-339.
Application date | November 7, 2025.
ADAMS Accession No | ML25316A170.
Location in Application of NSHC | Pages 3-5 of Enclosure 1.
Brief Description of Amendment(s) | The proposed amendments would add a new Technical Specification 3.6.9, “Containment Sump,” and add an Action to address the condition of the containment sump made inoperable as described in the application.
Proposed Determination | NSHC.
Name of Attorney for Licensee, Mailing Address | W. S. Blair, Senior Counsel, Dominion Energy Services, Inc., 120 Tredegar St., RS-2, Richmond, VA 23219.
NRC Project Manager, Telephone Number | G. Ed Miller, 301-415-2481.
Vistra Operations Company LLC; Davis-Besse Nuclear Power Station, Unit 1; Ottawa County, OH
Docket No(s) | 50-346.
Application date | November 19, 2025.
ADAMS Accession No | ML25323A016.
Location in Application of NSHC | Pages 5-7 of Attachment 1.
Brief Description of Amendment(s) | The proposed amendment would revise Technical Specification (TS) 3.3.9, “Source Range Neutron Flux,” to allow the use of alternate source range neutron monitoring instrumentation per TS Table 3.3.17-1, “Post Accident Monitoring Instrumentation,” Function 17.
Proposed Determination | NSHC.
Name of Attorney for Licensee, Mailing Address | Roland Backhaus, Senior Lead Counsel-Nuclear, Vistra Corp., 325 7th Street NW, Suite 520, Washington, DC 20004.
NRC Project Manager, Telephone Number | Robert Kuntz, 301-415-3733.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Pacific Gas and Electric Company; Diablo Canyon Nuclear Power Plant, Units 1 and 2; San Luis Obispo County, CA
Docket No(s) | 50-275, 50-323.
Amendment Date | December 2, 2025.
ADAMS Accession No | ML25324A367.
Amendment No(s) | 254 (Unit 1) and 256 (Unit 2).
Brief Description of Amendment(s) | The amendments revised Technical Specification 3.8.1, “AC [Alternating Current] Sources-Operating,” using the Risk-Informed Process for Evaluations (RIPE). The RIPE process is an NRC staff approved risk-informed method that is used to disposition applications of very low safety significance.
Public Comments Received as to Proposed NSHC (Yes/No) | No.
Southern Nuclear Operating Company, Inc.; Vogtle Electric Generating Plant, Units 1 and 2; Burke County, GA
Docket No(s) | 50-424, 50-425.
Amendment Date | November 26, 2025.
ADAMS Accession No | ML25272A237.
Amendment No(s) | 229 (Unit 1) and 211 (Unit 2).
Brief Description of Amendment(s) | The amendments revised Vogtle Electric Generating Plant, Units 1 and 2, Technical Specification 3.6.6, “Containment Spray and Cooling Systems,” Surveillance Requirement 3.6.6.8 to change the frequency to verify each containment spray system spray nozzle is unobstructed.
Public Comments Received as to Proposed NSHC (Yes/No) | No.
Southern Nuclear Operating Company, Inc.; Vogtle Electric Generating Plant, Units 3 and 4; Burke County, GA
Docket No(s) | 52-025, 52-026.
Amendment Date | November 25, 2025.
ADAMS Accession No | ML25269A107.
Amendment No(s) | 209 (Unit 3) and 207 (Unit 4).
Brief Description of Amendment(s) | The amendments revised Technical Specification (TS) 3.8.2, “DC [Direct Current] Sources—Shutdown,” Condition B. The amendments revised the entry requirements to Condition B of TS 3.8.2.
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | September 23, 2025.
ADAMS Accession No | ML25253A408.
Amendment No(s) | 289 (Unit 1) and 273 (Unit 2).
Brief Description of Amendment(s) | The amendments revised technical specifications (TS) for the Susquehanna Steam Electric Station, Units 1 and 2. Specifically, the amendments modified the primary containment leak rate testing program TS by: increasing the integrated leak rate test program interval; extending test intervals for Type A, B, and C leakage rate tests; extending the drywell-to-suppression chamber bypass leak rate test frequency; extending the frequency of containment isolation valve leakage rate testing; and using American National Standards Institute/American Nuclear Society Standard 56.8-2020, “Containment System Leakage Testing Requirements.” The amendments also replaced certain guidance document references and deleted information regarding the performance of tests that have been successfully performed.
Public Comments Received as to Proposed NSHC (Yes/No) | No.

IV. Notice of Issuance of Amendment to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved. The Commission has applied the standards of 10 CFR 50.92 and has made a final determination that the amendments involve NSHC. The basis for this determination is contained in the NRC staff safety evaluation related to each action. Accordingly, the amendment has been issued and made effective as indicated.

For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance—Exigent Circumstances
Constellation Energy Generation, LLC; Calvert Cliffs Nuclear Power Plant, Unit 2; Calvert County, MD
Docket No(s) | 50-318.
Amendment Date | November 03, 2025.
ADAMS Accession No | ML25304A004.
Amendment No(s) | 330.
Brief Description of Amendment(s) | The amendment added a license condition that allowed the swap of control element assembly group assignments in support of a down-power.
Local Media Notice (Yes/No) | Yes.
Public Comments Requested as to Proposed NSHC (Yes/No) | Yes.

Dated: December 17, 2025.
For the Nuclear Regulatory Commission.
Hipólito González,
Acting Deputy Director, Division of Operating Reactor Licensing, Office of Nuclear Reactor Regulation.

[FR Doc. 2025-23679 Filed 12-22-25; 8:45 am]

BILLING CODE 7590-01-P